DEPARTMENT OF COMMERCE

International Trade Administration

[A-549-817]

Notice of Extension of Time Limit for Preliminary Results of Antidumping Duty Administrative Review: Certain Hot-Rolled Carbon Steel Flat Products From Thailand

AGENCY: Import Administration, International Trade Administration, Commerce.

DATES: Effective Date: October 6, 2006.

FOR FURTHER INFORMATION CONTACT: Stephen Bailey, AD/CVD Operations, Office 7, Import Administration, International Trade Administration, U.S. Department of Commerce, 14th Street and Constitution Avenue, NW., Washington, DC 20230; telephone: (202) 482-0193.

SUPPLEMENTARY INFORMATION:

Background

The Department of Commerce (the Department) received timely requests for administrative review of the antidumping duty order on certain hot-rolled carbon steel flat products (hot-rolled steel) from Thailand, with respect to Sahaviriya Steel Industries Public Company Limited (SSI) on November 30, 2005, from domestic producer Nucor Corporation (Nucor). Also on November 30, 2005, the Department received a request for administrative review of the same order for SSI, Nakornthai Strip Mill Public Co., Ltd. (NSM), and G Steel Public Company Limited (G Steel) from petitioner United States Steel Corporation (petitioner). On December 22, 2005, the Department published a notice of initiation of this administrative review for the period of November 1, 2004, through October 31, 2005. See Notice of Initiation of Antidumping and Countervailing Duty Administrative Reviews and Request for Revocation in Part, 70 FR 76024 (December 22, 2005).

On January 13, 2006, G Steel submitted a no-shipments letter to the Department in which it claimed it did not have sales, shipments, or entries of subject merchandise to the United States during the current period of review (i.e., November 1, 2004 through October 31, 2005).

On March 22, 2006, both Nucor and petitioner submitted letters withdrawing their requests for administrative review of the above-referenced antidumping duty order with respect to SSI. Accordingly, on April 28, 2006, the Department rescinded this review with respect to SSI. See Partial Rescission of Antidumping Duty Administrative Review: Certain Hot-Rolled Carbon Steel Flat Products from Thailand, 71 FR 25148 (April 28, 2006).

On August 2, 2006, the Department extended the preliminary results of administrative review by 60 days to October 2, 2006. See Notice of Extension of Time Limit for Preliminary Results of Antidumping Duty Administrative Review: Certain Hot-Rolled Carbon Steel Flat Products From Thailand, 71 FR 44019 (August 3, 2006).

Extension of Time Limits for Preliminary Results

Pursuant to section 751(a)(3)(A) of the Tariff Act of 1930, as amended (the Act), the Department shall issue preliminary results in an administrative review of an antidumping duty order within 245 days after the last day of the anniversary month of the date of publication of the order. The Act further provides, however, that the Department may extend that 245-day period to 365 days if it determines it is not practicable to complete the review within the foregoing time period.

On September 14, 2006, petitioner submitted a request for the Department to rescind the current administrative review with respect to NSM, and on September 15, 2006, NSM submitted comments rebutting petitioner's request. Due to the Department's ongoing analysis of the comments received from both parties, and in light of the complexity of analyzing NSM's sales and cost data and the control number reporting methodology for various products, it is not practicable to complete this review by the current 60-day extended deadline of October 2, 2006. Therefore, in accordance with section 751(a)(3)(A) of the Act, the Department is extending the time limit for the preliminary results by 30 days until October 31, 2006.¹ The final results continue to be due 120 days after the publication of the preliminary results, in accordance with section 351.213(h) of the Department's regulations.

This notice is issued and published in accordance with sections 751(a)(1) and 777(i)(1) of the Act.

Dated: October 2, 2006.
Stephen J. Claeys,
Deputy Assistant Secretary for Import Administration.

¹ The Department notes that because extensions to the preliminary results are based on the last day of the anniversary month of the order, the new due date is Tuesday, October 31, 2006 (90 days from the original preliminary due date of August 2, 2006).

[FR Doc. E6-16608 Filed 10-5-06; 8:45 am]

BILLING CODE 3510-DS-P